DEPARTMENT OF DEFENSE

Office of the Secretary

[Docket ID DOD-2018-HA-0102]

Submission for OMB Review; Comment Request

AGENCY: Office of the Assistant Secretary of Defense for Health Affairs, DoD.

ACTION: 30-day information collection notice.

SUMMARY: The Department of Defense has submitted to OMB for clearance the following proposal for collection of information under the provisions of the Paperwork Reduction Act.

DATES: Consideration will be given to all comments received by April 10, 2019.

ADDRESSES: Comments and recommendations on the proposed information collection should be emailed to Mr. Josh Brammer, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Comparing Hospital Hand Hygiene in Liberia: Soap, Alcohol, and Hypochlorite; OMB Control Number 0720-XXXX.

Type of Request: New collection.

Affected Public: Individuals or households.

Phase 1 Interview:

Annual Burden Hours: 84.

Number of Respondents: 84.

Responses per Respondent: 1.

Annual Responses: 84.

Average Burden per Response: 1 hour.

Frequency: As required.

Phase 2 Interview:

Annual Burden Hours: 90.

Number of Respondents: 36.

Responses per Respondent: 2.5.¹

¹ Respondents may complete a follow up to their original response during Phase 2, via a focus group.

Annual Responses: 90.

Average Burden per Response: 1 hour.

Frequency: As required.

Phase 3 Interview:

Annual Burden Hours: 36.

Number of Respondents: 36.

Responses per Respondent: 1.

Annual Responses: 36.

Average Burden per Response: 1 hour.

Frequency: As required.

Phase 4 Interview:

Annual Burden Hours: 48.

Number of Respondents: 48.

Responses per Respondent: 1.

Annual Responses: 48.

Average Burden per Response: 1 hour.

Frequency: As required.

Total Annual Burden Hours: 258.²

² Some respondents are the same throughout the collection's phases.

Total Number of Respondents: 84 total.

Total Average Burden per Response: 1 hour.

Total Annual Responses: 258.

Needs and Uses: This information collection is necessary to conduct research as part of a U.S.-Liberia collaboration funded by the U.S. Department of Defense Center for Global Health Engagement. The study objectives are to determine the most appropriate cleansing material (soap, alcohol, or hypochlorite/chlorine solution) for routine hand hygiene in Liberian healthcare facilities and to determine how best to implement hand hygiene programs in these facilities. Results of this study may inform Liberian Government strategies to expand and implement best hospital hand hygiene intervention(s) across the nation, and also help shape hand hygiene program implementation in the U.S. DoD global humanitarian assistance, disaster relief, and health system strengthening.

Affected Public: Individuals or households.

Frequency: As required.

Respondent's Obligation: Voluntary.

OMB Desk Officer: Mr. Josh Brammer.

You may also submit comments and recommendations, identified by Docket ID number and title, by the following method:

• Federal eRulemaking Portal:http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: March 6, 2019.
Aaron T. Siegel,
Alternate OSD Federal Register Liaison Officer, Department of Defense.

[FR Doc. 2019-04345 Filed 3-8-19; 8:45 am]

BILLING CODE 5001-06-P